DEPARTMENT OF STATE

[Public Notice 5749]

U.S. Department of State Advisory Committee on Private International Law: Study Group on Consumer Protection

One of the goals of the Organization of American States is to harmonize private international law through Inter-American Specialized Conferences on Private International Law (CIDIP). The OAS has hosted these conferences every four to six years. Currently states are drafting instruments for “CIDIP-VII,” which will focus inter alia on consumer protection. States are currently reviewing a draft Brazilian treaty on choice of law, a Canadian draft model law on choice of law and jurisdiction, and a U.S. proposal for a model law on the availability of consumer dispute resolution and redress. OAS member states discussed the three proposals at an initial meeting held in Porto Alegre, Brazil in December. No dates have been set for future meetings, but the views of participating states have been requested. The Department of State Advisory Committee on Private International Law (ACPIL) will hold a public meeting to continue reviewing the results of the Porto Alegre meeting and the views on the three proposals with regard to consumer protection, that were begun at the March 22, 2007 meeting.

Time: The public meeting will take place at the Federal Trade Commission, 600 Pennsylvania Ave., NW., Room H-481, Washington, DC on April 24, 2007 from 10 a.m. EST to 12 p.m. EST. If you are unable to attend the public meeting and you would like to participate by teleconferencing, please contact Trisha Smeltzer to receive the conference call number and the relevant materials (the Brazilian proposal for a treaty on choice of law, the Canadian proposal for a model law on jurisdiction and choice of law, and the U.S. proposal for a model law on the availability of consumer dispute resolution and redress).

Public Participation: Advisory Committee Study Group meetings are open to the public. Persons wishing to attend should contact Trisha Smeltzer at smeltzertk@state.gov or at 202-776-8423 and provide your name, e-mail address, and affiliation(s). Additional meeting information can also be obtained from Ms. Smeltzer. Persons who cannot attend but who wish to comment on any of the proposals are welcome to do so by e-mail to Michael Dennis at DennisMJ@state.gov.

Dated: April 2, 2007.
Michael Dennis,
Attorney-Adviser, Office of the Legal Advisor, Office of Private International Law, Department of State.

[FR Doc. E7-6625 Filed 4-6-07; 8:45 am]

BILLING CODE 4710-08-P